DEPARTMENT OF DEFENSE

Defense Acquisition Regulations System

[Docket Number DARS-2022-0017; OMB Control Number 0704-0549]

Information Collection Requirements; Defense Federal Acquisition Regulation Supplement; Contractors Performing Private Security Functions Outside the United States

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by October 7, 2022.

SUPPLEMENTARY INFORMATION: Title and OMB Number: Defense Federal Acquisition Regulation Supplement (DFARS) Part 225, Foreign Acquisition, and Defense Contractors Performing Private Security Functions Outside the United States; OMB Control Number 0704-0549.

Affected Public: Businesses entities.

Respondent's Obligation: Required to obtain or retain benefits.

Type of Request: Revision of a currently approved collection.

Reporting Frequency: On Occasion.

Number of Respondents: 10.

Responses per Respondent: 4.

Annual Responses: 40.

Average Burden per Response: 0.5 hours.

Annual Burden Hours: 20.

Needs and Uses: Geographic combatant commanders are required by statute to establish procedures and assign responsibilities for ensuring that contractors and contractor personnel report certain security incidents when performing private security functions in covered operational areas. The clause at DFARS 252.225-7039, Defense Contractors Performing Private Security Functions Outside the United States, requires contractors and subcontractors performing private security functions in designated operational areas outside the United States to comply with 32 CFR part 159 and any orders, directives, and instructions contained in the contract on reporting the following types of incidents to the geographic combatant commander if and when they occur:

(a) A weapon is discharged by personnel performing private security functions.

(b) Personnel performing private security functions are attacked, killed, or injured.

(c) Persons are killed or injured or property is destroyed as a result of conduct by contractor personnel.

(d) A weapon is discharged against personnel performing private security functions or personnel performing such functions believe a weapon was so discharged.

(e) Active, non-lethal countermeasures (other than the discharge of a weapon) are employed by personnel performing private security functions in response to a perceived immediate threat.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2022-19285 Filed 9-6-22; 8:45 am]

BILLING CODE 5001-06-P